ENVIRONMENTAL PROTECTION AGENCY

[ER-FRL-8583-3]

Environmental Impacts Statements; Notice of Availability

Responsible Agency: Office of Federal Activities, General Information (202) 564-7167 or http://www.epa.gov/compliance/nepa/.

Weekly receipt of Environmental Impact Statements

Filed 06/23/2008 through 06/27/2008.

Pursuant to 40 CFR 1506.9.

EIS No. 20080255, Final EIS, AFS, UT, Indian Springs Road Realignment, Reducing Adverse Impacts to Watershed and Fisheries, U.S. Army COE Section 404 Permit, Uinta-Wasatch-Cache National Forest, Wasatch County, UT, Wait Period Ends: 08/18/2008, Contact: Jim Percy 435-654-0470.

EIS No. 20080256, Draft EIS, NOA, 00, Amendment 29 Reef Fish Fishery Management Plan, Effort Management in the Commercial Grouper and Tilefish Fisheries, Reducing Overcapacity, Gulf of Mexico, Comment Period Ends: 08/18/2008, Contact: Roy E. Crabtree 727-824-5301.

EIS No. 20080257, Draft EIS, FAA, NM, Spaceport America Commercial Launch Site, Proposal to Develop and Operate, Issuance of License, Sierra County, NM, Comment Period Ends: 08/18/2008, Contact: Stacey M. Zee 202-267-9305.

EIS No. 20080258, Draft EIS, NHT, 00, Corporate Average Fuel Economy (CAFE) Proposed Standards for Model Year 2011-2025 Passenger Cars and Light Trucks, Implementation, Comment Period Ends: 08/18/2008, Contact: Carol Hammel-Smith 202-366-5206.

This document is available on the Internet at: http://www.nhtsa.dot.gov.

Amended Notices

EIS No. 20080242, Draft EIS, BLM, WV,East Lynn Lake Coal Lease Project, Proposal to Lease Federal Coal that lies Under Nine Tracts of Land for Mining, Wayne County, WV, Comment Period Ends: 09/24/2008, Contact: Chris Carusona 414-297-4463.

Revision of FR Notice Published 06/27/2008: Correction to project's state location from VA to WV.

Dated: June 30, 2008.
Robert W. Hargrove,
Director, NEPA Compliance Division, Office of Federal Activities.

[FR Doc. E8-15144 Filed 7-2-08; 8:45 am]

BILLING CODE 6560-50-P